DEPARTMENT OF HEALTH AND HUMAN SERVICES

Administration for Children and Families

American Indian—Alaska Native Head Start Research Center

Program Office: Office of Planning, Research and Evaluation (OPRE).

Funding Opportunity Title: American Indian-Alaska Native Head Start-Research Center.

Announcement Type: Cooperative Agreement—Initial.

Funding Opportunity Number: HHS-2005-ACF-OPRE-YF-0067.

CFDA Number: 93.600.

Due Date for Letter of Intent or Preapplications: 6/3/2005.

Due Date for Applications: 7/1/2005.

Executive Summary: Funds are provided for the creation of an American Indian Alaska Native (AI-AN) Head Start Research Center that will provide leadership and collaborate with researchers with diverse areas of expertise in order to facilitate early childhood research within the Head Start AI-AN context, engage in capacity building, and establish model research partnerships between local researchers, Head Start American Indian Alaska Native program staff and members of tribal communities.

This cooperative agreement is part of a larger Head Start research effort. Three other grant funding mechanisms are being offered concurrently with the one described in this announcement. They include: (1) American Indian-Alaska Native Head Start Research Center, (2) Head Start Graduate Student Research Grants, and (3) Head Start Graduate Student Research Partnership Development Grants. For more information, please see these other Head Start Research announcements listed in the Federal Register or listed on http://www.Grants.gov.

I. Funding Opportunity Description

A. Purpose

The purpose of this opportunity is to fund an American Indian Alaska Native Head Start Research Center that will provide leadership and offer support in the development and facilitation of local research, and strengthen the ability of local researchers to conduct model research projects (based in universities and other non-profit research institutions) in collaboration with Head Start American Indian, Alaska Native program staff and members of tribal communities. The Center is expected to engage in a variety of activities that are designed to promote excellence in early childhood research, make a significant contribution to the knowledge base, improve research capacity, and provide leadership and support for research on the early development of American Indian Alaska Native children. The successful applicant should be aware of and be able to collaborate with local researchers who are conversant with tribal communities; be familiar with the available strengths and needs of tribal communities; be knowledgeable of the particular histories of tribal Head Start programs; and be able to build the trust and support of local tribes so they may become valuable partners in developing research goals and questions.

The Center will also be responsible for assuring that each successful partnership will be able to provide evidence that the research projects are developing information to improve the early learning environments for American Indian Alaska Native Head Start children. Therefore, such affiliations necessitate that researchers become familiar with the goals and approaches of existing AI-AN Head Start programs.

It is expected that the lessons learned from model partnerships will then be shared with the larger research community, both through the Head Start network and by other means. Examples of approaches and lessons learned from these partnerships that could be shared include, but are not limited to: methodological approaches for sampling; assessment and analysis at the local program level; plans for reporting data to teachers, parents, and management staff; integrated curricular and assessment approaches; and professional development approaches including coursework and training materials.

B. Statutory Authority

Section 649 of the Head Start Act, as amended by the Coats Human Services Reauthorization Act of 1998 (Pub. L. 105-285) codified at 42 U.S.C. 9844.

C. Background

The American Indian Alaska Native Program Branch funds Head Start and Early Head Start programs operated by tribes, consortia, and/or corporations. The majority of grantees serve and reside on tribal reservations. Generally, grants are awarded to tribal governments, with tribal presidents, governors, executive directors or administrators as authorizing officials.

American Indian and Alaska Native (AI-AN) Head Start programs reflect the diversity of languages and traditions that exist in AI-AN cultures. Substantial numbers of children served by the AI-AN Branch speak an American Indian language or language other than English or Spanish as their dominant language. The programs vary greatly in size, with the smallest grantee serving about 15 children and the largest, more than 4,000 children and families. The programs also are geographically diverse, and are located in isolated rural settings as well as in urban areas. AI-AN grantees provide comprehensive services to children and families through center and home-based options, as well as combinations and locally designed configurations.

Historically, the diversity of many different tribes participating in Head Start has posed methodological challenges to their inclusion in nationally representative samples for evaluation research. For instance, current national research and evaluation activities of Head Start, such as the Family and Child Experiences Survey (FACES) and the Head Start Impact Study, exclude tribal programs from the population eligible for inclusion in the samples.

While there are reporting challenges that are unique to AI-AN populations, Tribal Head Start programs have the same performance standards and requirements for assessing program outcomes as other Head Start programs. However, there is little prior research evidence available to provide guidance to programs about effective instructional, service delivery, or assessment approaches in tribal settings.

American Indian and Alaska Native Head Start programs need to be included in Head Start Bureau efforts to enhance the quality of Head Start programming, and to improve accountability by strengthening screening and assessment of child outcomes and program monitoring. There is a need, however, to provide leadership and guidance in order to increase the evidence base and provide direction for program enhancements, and such activities must be conducted in a manner that takes into account the unique cultural values of tribes implementing Head Start programs.

For historical and ethical reasons tribal communities must have a significant voice in how research is designed and conducted in those settings. To support the development and implementation of research within and by tribal communities, ACF undertook in FY2002 an effort to document the existing knowledge base concerning early childhood programming and assessment in tribal settings, and to collect information on the research needs and priorities of tribal Head Start programs. Little was known about what research was currently being conducted by tribal Head Start programs, what the experiences of tribal programs in research partnerships with colleges and universities had been, and how ACF might support these partnerships. The project resulted in a review and synthesis of available research literature, both published and unpublished, that pertained to young children and families in American Indian and Alaska Native populations. That report is available online at: http://www.acf.dhhs.gov/programs/core/ongoing_research/hs/hs_aian_report.html.

A second part of this effort was to conduct a series of visits to tribes to assess their own views about the following questions: (1) What kind of research is needed and desired in tribal Head Start settings; (2) what outcomes are important for American Indian and Alaska Native Head Start; (3) what programmatic and service delivery issues need to be studied; and (4) what are the issues in conducting research among American Indian and Alaska Native populations? Visits were arranged with 19 tribes to conduct “listening sessions” with tribal leadership, Head Start personnel, Head Start family members, and other community stakeholders. Other sessions were held in conjunction with national meetings of American Indian Alaska Native Head Start grantees and technical assistance staff.

These efforts documented the scarcity of existing research that directly informs early childhood programming for American Indian and Alaska Native children and families. Few studies have taken into account the unique cultural and linguistic characteristics of the AI-AN population, and existing studies tend to be small, methodologically weak, and of limited generalizability to other surroundings. There is a need to develop the capacity for early childhood research in tribal settings both to improve the ability of tribal members themselves to initiate research projects and to increase the number of qualified individuals who have the ability to effectively partner with tribes to implement research.

At the same time, there is widespread recognition within tribal communities of the need for culturally relevant research, as well as substantial support among tribal members for research that will advance the knowledge base and improve the lives of the children and families who are served by Head Start in their communities. Indeed, tribal communities have affirmed that they must have a significant voice in how the research is designed and conducted among their members. Cultural issues must be addressed in the development of methodologies, study procedures, and data collection instruments for use in conducting research among tribal Head Start programs. Differences among American Indian-Alaskan Native groups must be acknowledged and respected in developing the methodology and conducting the research. In addition to Head Start personnel, tribal leaders and community elders often must be part of the process in designing and conducting research in tribal settings.

Building on the needs identified both by participants in the listening sessions, and other consultants, this announcement is intended to ensure that future research is responsive to the changing needs of American Indian-Alaska Native children and families, and that researchers who are focusing on early childhood research within tribal communities are provided with the necessary leadership and support for capacity building that is currently needed. Therefore, Head Start's commitment to a partnership between researchers and a national AI-AN Head Start Research Center is essential. The unique relationship forged between the Center, the researcher and the tribal community within the Head Start and early childhood research context will serve as a model for the establishment of other partnerships within the community (e.g., researcher-Head Start staff, researcher-family, etc.). This foundation will help bolster the skills necessary to build on early childhood research paradigms by fostering successful collaborations between the AI-AN population and the scientific community.

Thus, the goal of the Head Start American Indian Alaska Native Research Center is to pull together researchers with diverse areas of expertise that will focus on early childhood research within the Head Start context, as well as in tribal communities as a whole. It is anticipated that the Center will make a significant contribution to the knowledge base and support the research on the early development of American Indian-Alaska Native children and families. The types of topics that have previously been identified as particularly relevant to research within AI-AN settings are listed below; the Center may wish to propose other relevant topics as well.

• Identifying and addressing the unique characteristics and needs of American Indian and Alaska Native Head Start children and families that may affect learning;

• Examining the role of Head Start in promoting and maintaining native languages and culture by documenting and addressing cultural diversity within tribal Head Start settings;

• Comparing outcomes for bilingual children vs. English-only speakers;

• Investigating long-term outcomes for AI-AN Head Start children, including studies of factors that promote or inhibit the successful transition to school and studies that compare outcomes for AI-AN Head Start children with those for other Head Start children;

• Comparing tribal Head Start children to non-tribal children;

• Studying the effectiveness of instructional practices tailored to the unique characteristics of tribal children that promote school readiness;

• Documenting and assessing the availability of resources to meet unique tribal needs;

• Evaluating programs that are aimed at health and development, including health delivery models as well as preventive programs for adverse health and mental health outcomes;

• Exploring staff development issues, including wage and benefit comparability between AI-AN and non-tribal early childhood educators, causes of staff turnover, ways to retain staff, identification of staff members' academic and non-academic skills that best promote child development within a cultural context, and providing staff development opportunities in geographically isolated communities;

• Developing and utilizing culturally appropriate screening, assessment, and outcome measures;

• Building and promoting methods for enhancing communication and cooperation among Head Start personnel, parents, tribal governments, and school district personnel;

• Identifying special needs among AI-AN Head Start children, and recommending and testing, or developing and evaluating programs for addressing them;

• Examining the effectiveness of methods for enhancing parent involvement, including promotion of knowledge about child development among parents, promotion of adult literacy, and promotion of father involvement;

• Investigating the impact of adverse conditions on child development, including geographic isolation and poverty, adverse family circumstances such as domestic violence or substance abuse, and historical experiences of racism and discrimination of AI-AN culture; and

• Promoting professional and educational opportunities for undergraduates, pre-doctoral and medical students, residents, post-doctoral trainees and senior scholars who are interested in AI-AN research.

The Center will advance the research field and Head Start by facilitating capacity building with local researchers, scholars, American Indian Alaska Native Head Start staff, tribal authorities, tribal communities and families. The objectives of the project are to: (1) Create a national research center that will contribute to the knowledge base on early development of American Indian Alaska Native children and families within the Head Start program; (2) support local research projects that focus on the development of young children and families in American Indian and Alaska Native Head Start and Early Head Start programs; and (3) build capacity and promote partnerships between the local research community and Head Start tribal communities.

The Center will achieve this by facilitating and supporting the development of partnership opportunities between researchers, and AI-AN Head Start communities in order to begin to build a portfolio of research projects related to early childhood development in AI-AN settings. It is expected that a working consortium of researchers will be established that will identify and further develop particular research approaches targeted toward better describing the unique characteristics and developmental needs of American Indian Alaska Native children and their families, evaluating or enhancing program practices, and developing approaches to outcomes assessment based on the needs of the population served. The Center and consortium will develop research activities and topics that are decided through the cooperative agreement between OPRE, the Center and in consultation with the AI-AN Head Start staff and other tribal stakeholders that have agreed to participate in research projects, and that clearly reflect the interests of the American Indian Alaska Native Head Start programs and communities. Note that all studies, reports, proposals, and data produced or developed with federal funds under Head Start American Indian-Native Alaskan Research Center Program “shall become the property of the United States.” pursuant to Section 649(f) of the Head Start Act, 42 U.S.C. 9844.

The types of activities that may be undertaken to support the development of research partnerships include, but are not limited to: providing financial support through competitions or other selection mechanisms to research projects that will be undertaken through partnerships between research institutions and AI-AN Head Start communities; supporting or augmenting research projects already in development or underway in AI-AN settings; piloting or implementing specific research projects with AI-AN Head Start communities; and providing training or career development opportunities to build research capacity for AI-AN Head Start communities. Significant involvement in the planning and implementation of all activities by the AI-AN Head Start communities themselves will be an important feature. Although applicants are expected to propose specific activities for accomplishing the goals of the project, final work plans will be developed in conjunction with ACF and Head Start staff.

Priority Area

1. Description.

II. Award Information

Funding Instrument Type: Cooperative Agreement.

Substantial Involvement with Cooperative Agreement: ACF expects to work closely with the organization that receives funding to ensure monies are used appropriately and in the most effective manner possible and that the services and activities included in the approved application address the establishment of a consortium of local research partners and that the needs of the research partners and the American Indian Alaska Native communities be clearly stated in an efficient, effective, and timely manner. Therefore, the organization selected to receive the award will be responsible for implementing activities specified in a work plan that will be jointly developed by the Center and staff from OPRE, in consultation with the Head Start Bureau.

Anticipated Total Priority Area Funding: $800,000.

Anticipated Number of Awards: 1.

Ceiling on Amount of Individual Awards: $800,000 per budget period.

Floor on Amount of Individual Awards: None.

Average Projected Award Amount: $800,000 per budget period.

Length of Project Periods: 36 month project with three 12 month budget periods.

The Federal share of project costs shall not exceed $800,000 for the first 12-month budget period inclusive of indirect costs and shall not exceed $1,000,000 per year for the second through third 12-month budget periods. An application that exceeds the upper value of the dollar range specified will be considered “non-responsive” and be returned to the applicant without further review. The project period will be up to three years. The initial award will be for the first one-year budget period. Requests for a second and/or third year of funding within the project period should be identified in the current application (on SF-424A), but such requests will be considered in subsequent years on a noncompetitive basis, subject to the applicant's eligibility status, the availability of funds, satisfactory progress of the grantee, and a determination that continued funding would be in the best interest of the Government. An application for a continuation funded under this award beyond the three-year budget and three-year project period for an additional two years will be entertained in subsequent years on a noncompetitive basis, subject to availability of funds, satisfactory progress of the grantee and a determination that continued funding would be in the best interest of the Government.

III. Eligibility Information

1. Eligible Applicants:

• State controlled institutions of higher education

• Non-profits having a 501(c)(3) status with the IRS, other than institutions of higher education

• Non-profits that do not have a 501(c)(3) status with the IRS, other than institutions of higher education

• Private institutions of higher education

Additional Information on Eligibility: Applicants are universities, four-year colleges, and not-for profit institutions on behalf of researchers who hold a doctorate degree or equivalent in their respective fields. The Principal Investigator who will head up the Center must conduct research as a primary professional responsibility, and have published or have been accepted for publication in the major peer-reviewed research journals in the field as a first author or second author.

An important element of this announcement is the requirement that the applicant, and any proposed researchers that will eventually make up the consortium, demonstrate a partnership or partnerships with Head Start or Early Head Start programs as part of all research.

The application must contain a detailed process on how the applicant intends on awarding local research projects and clearly communicate the stipulation that one of the requirements of any local Principal Investigator is a letter of agreement from the Head Start or Early Head Start program the local P.I. intends on working with, certifying that they have entered into a partnership with the applicant and the application has been reviewed and approved by tribal authorities.

The Principal Investigator must agree to attend two meetings each year. The first is an annual grantee meeting that is typically scheduled during the summer or fall of each year and is held in Washington, DC. All local P.I.'s that make up the consortium are also expected to attend. The second meeting each year alternates between the biennial Head Start National Research Conference in Washington, DC, June 26th through June 29th, 2006 and the biennial meeting of the Society for Research in Child Development (SRCD). The budget should reflect travel funds for such purposes.

Please see section V.1 Evaluation Criteria for further information on how applications will be scored based on program requirements.

Faith-based and community organizations that meet all other eligibility criteria are eligible to apply.

2. Cost Sharing/Matching: None.

3. Other: All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors: Applications that exceed the ceiling amount will be considered non-responsive and will not be considered for funding under this announcement.

Any application that fails to satisfy the deadline requirements referenced in Section IV.3 will be considered non-responsive and will not be considered for funding under this announcement.

IV. Application and Submission Information

1. Address To Request Application Package: Head Start Research Support Technical Assistance Team, OPRE Grant Review Team, Xtria, LLC, 8045 Leesburg Pike, Suite 400, Vienna, VA 22182; phone: 877-663-0250; e-mail: opre@xtria.com.

2. Content and Form of Application Submission:

Letter of Intent: Those who plan to submit an application are encouraged to submit notice via a letter of intent by fax or e-mail by June 3, 2005. This information will be used only to determine the number of expert reviewers needed to review the applications. Include only the following information in this fax or e-mail: the number and title of this announcement; the name, address, telephone and fax number, e-mail address of the principal investigator(s), the fiscal agent (if known); and the name of the university, non-profit institution, or other organization. Applicants should not enclose a description of their proposed project. Send this information to: “Head Start Research Support Technical Assistance Team” at: E-mail: opre@xtria.com, or fax to: 1-703-356-0472.

Application Requirements: An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) of specific salary rates or amounts for individuals specified in the application budget and Social Security Numbers, if otherwise required for individuals. The copies may include summary salary information.

Format and Organization. Applicants are strongly encouraged to limit their application to 100 pages, double-spaced, with standard one-inch margins and 12-point fonts. This page limit applies to both narrative text and supporting materials but not the Standard Federal Forms (see list below). Applicants must number the pages of their application beginning with the Table of Contents.

Applicants are advised to include all required forms and materials and to organize these materials according to the format, and in the order, presented below:

a. Cover Letter.

b. Contact information sheet (see details below).

c. Standard Federal Forms.

Standard Application for Federal Assistance (form 424) Budget Information—Non-construction Programs (424A) Certifications Regarding Lobbying Disclosures of Lobbying Activities (if necessary); Certification Regarding Environmental Tobacco Smoke Assurance Regarding Non-construction Programs (form 424B) Assurance Regarding Protection of Human Subjects.

d. Table of Contents.

e. Project Narrative Statement (see details below).

f. Appendices.

Proof of Non-profit Status (see Section V.1.F), Letter(s) of agreement with Head Start program(s) (see details below), Letter(s) of agreement with Head Start Policy Council(s) (see details below), Curriculum Vitae for Principal Investigators.

You may submit your application to us in either electronic or paper format. To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times:

Due Date For Letter of Intent or Preapplications: 06/03/2005.

Due Date for Applications: 07/01/2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will be provided to applicants who submit their package via mail, courier services, or by hand delivery. Applicants will receive an electronic acknowledgement for applications that are submitted via http://www.Grants.gov.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | http://www.acf.hhs.gov/programs/ofs/forms.htm | By date of award.
Support Letters | IV.2 | IV.2 | By application due date.
Non-Federal Commitment Letters | IV.2 | IV.2 | By application due date.
Proof of Non-Profit Status | See Section III.3 | Found in Section III.3 | By date of award.
Assurance Regarding Protection of Human Subjects | IV.2 | http://www.acf.hhs.gov/programs/ofs/forms.htm | By application due date.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions: Grant awards will not allow reimbursement of pre-award costs.

6. Other Submission Requirements:

Submission by Mail: An applicant must provide an original application with all attachments, signed by an authorized representative and two copies. Please see Section IV.3 for an explanation of due dates. Applications should be mailed to: Head Start Research Support Technical Assistance Team, OPRE Grant Review Team, Xtria, LLC, 8045 Leesburg Pike, Suite 400, Vienna, VA 22182.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Head Start Research Support Technical Assistance Team, OPRE Grant Review Team, Xtria, LLC, 8045 Leesburg Pike, Suite 400, Vienna, VA 22182.

Electronic Submission: Please see Section IV.2 for guidelines and requirements when submitting applications electronically via http://www.Grants.gov.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria: The following are instructions and guidelines on how to prepare the “project summary/abstract” and “full project description” sections of the application. Under the evaluation criteria section, note that each criterion is preceded by the generic evaluation requirement under the ACF Uniform Project Description (UPD).

Part 1—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, explain how your proposed project will achieve the specific goals and objectives you have set. Estimate the number of consortium members you expect to identify. You may also specify particular individuals who have agreed to become affiliated with the Center as examples of your knowledge and experience in the areas of early childhood development and American Indian Alaska Native research. If there are particular areas of research where you have a limited amount of experience, you may propose individuals either at your institution or another institution that would be willing to be affiliated with the Center. If you choose this option, please make sure that a letter of commitment is included with your application. Explain how the expected results will benefit the population to be served. Specifically, in meeting its needs for the advancement of American Indian Alaska Native research that will benefit the larger American Indian Alaska Native Head Start and early childhood community and for early learning services and activities: how will the research community benefit from this project? What benefits will families derive from these services? How will the services help them? What lessons will be learned which might help other agencies and organizations that are addressing the needs of a similar client population?

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information

Following are requests for additional information that need to be included in the application:

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) a reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—45 Points

○ The extent to which the proposal provides evidence that the Center will be fully operational within 12 months, including the establishment of formal relationships with local researchers who will make up the consortium.

○ The extent to which the application clearly states the activities that the Center will undertake and how they meet the goals specified.

○ The extent to which the proposal develops a plan on how it will collaborate on research with consortium members, what kinds of assistance it will provide, and any capacity building activities. It is important to remember that any research plans should be jointly developed by the local research institutions and the Head Start or Early Head Start programs, as well as other relevant tribal stakeholders they plan to partner with, and approved by the Center in conjunction with OPRE. The application demonstrates a detailed process on how the applicant intends on awarding local research projects and clearly communicate the stipulation that one of the requirements of any local Principal Investigator is a letter of agreement from the Head Start or Early Head Start program the local P.I. intends on working with, certifying that they have entered into a partnership with the applicant and the application has been reviewed and approved by tribal authorities.

○ The extent to which the proposal describes in detail how it will promote professional and educational opportunities for undergraduates, pre-doctoral and medical students, residents, post-doctoral trainees and senior scholars who are interested in AI-AN research.

○ The extent to which the proposal is responsive to the requirements outlined in the “Additional Information on Eligibility” section.

○ The extent to which the applicant clearly lays out the planning process it will develop with consortium members. This includes reviewing and approving any research designs to make sure they are appropriate and sufficient for addressing the questions of each of the studies in conjunction with OPRE.

○ The extent to which the applicant specifies procedures for the selecting of research projects and activities that conform to the highest scientific standards, and the extent to which those selection procedures are objective and inclusive.

○ The extent to which the applicant develops and operationalizes management processes that clearly stipulate that the proposed Center will:

○ Review and approve the extent to which any planned research project specifies an appropriate design, including approaches to sampling, the measures to be used and their psychometric properties, and the analyses to be conducted;

○ Review and approve any planned procedures and measures to make sure they will be appropriate and sufficient for the questions of studies and the cultural contexts of the population to be studied;

○ Review and approve any planned measures and analyses to make sure that they will reflect knowledge and use of state-of-the-art measures and analytic techniques and/or advance the field;

○ Review and approve any analytic techniques and make sure they are appropriate for the questions under consideration;

○ Review and approve any proposed sample sizes to make sure they will be sufficient;

○ Review and approve any planned approaches to make sure they will include techniques for successful documentation and dissemination; and

○ Review and approve any budgets and budget justifications to make sure they are appropriate for carrying out the proposed projects.

○ The extent to which the activities listed above are incorporated into a detailed technical assistance and capacity building strategy to ensure that each research project will receive the necessary guidance and oversight needed to successfully complete its project.

○ The extent to which the applicant provides a detailed information and dissemination plan that includes the Head Start network and the field as a whole. Examples of potential products that may result from the Center and its research partners should also be included.

Staff and Position Data—35 Points

○ The extent to which the applicant is a university, four-year college, and not-for-profit institution applying on behalf of the Principal Investigator and other key Center staff possess both the multidisciplinary expertise to conduct early childhood research, and the management experience necessary to create and operate the Center. The applicant must also discuss how Center staff will build the consortium and then assist consortium members with implementing interventions and any technical experience that will benefit local researchers as they conduct research, as demonstrated in the application and information contained in their vitae. It is expected that the Principal Investigator(s) has earned a doctorate or equivalent in the relevant field and has publications in major peer-reviewed research journals.

○ The extent to which the applicant demonstrates the capacity to establish working relationships with researchers or researchers outside the applicant's own institution, and the extent to which there is evidence of prior successful partnerships to conduct research with AI-AN communities.

○ The extent to which the applicant can provide a detailed plan on how it will advance the scholarship of AI-AN early childhood research by promoting professional opportunities and leadership for undergraduates, pre-doctoral and medical students, residents, post-doctoral trainees and senior scholars who are interested in AI-AN research.

○ The extent to which the proposed staff reflect an understanding of and sensitivity to the issues of working in a tribal community setting and in partnership with American Indian Alaska Native Head Start program staff and parents.

○ The extent to which there is enough time devoted to this project by the Principal Investigator and other key staff in order to ensure a high level of professional input and attention.

○ The extent to which the research plan offers opportunities for American Indian and Alaska Native personnel to be engaged or employed in the research activities.

○ The extent to which the institution the applicant is affiliated with can provide the technological, academic, research, logistical and human capital that will either directly or indirectly benefit the proposed AI-AN Head Start Research Center.

Results or Benefits Expected—20 Points

○ The extent to which project goals and objectives are clearly stated.

○ The extent to which the proposed research project is justified as meeting the needs of American Indian and Alaska Native children and families and the research community that represents them.

○ The extent to which the applicant's proposed Center and its design makes a significant contribution to the knowledge base and support the research on the early development of American Indian and Alaska Native children and their families.

○ The extent to which the literature review is current and comprehensive and justifies the knowledge of the applicant and any understanding of potential research that may be conducted.

○ The extent to which the applicant understands and can provide professional support to research questions that may be addressed or hypotheses that may be tested by consortium members.

○ The extent to which the proposal contains sufficient details for meeting the stated objectives.

○ The extent to which the proposal contains a dissemination plan that encompasses both professional and practitioner-oriented products, and meets the needs of the Head Start and/or community partners.

○ The extent to which the questions are of importance and relevance for AI-AN children's development and welfare.

○ The extent to which the application provides for the Principal Investigator to attend two meetings each year. The first is an annual grantee meeting that is typically scheduled during the summer or fall of each year and is held in Washington, DC. All local P.I.'s that make up the consortium are also expected to attend. The second meeting each year alternates between the biennial Head Start National Research Conference in Washington, DC, June 26th through June 29th, 2006 and the biennial meeting of the Society for Research in Child Development-SRCD.

2. Review and Selection Process: No grant award will be made under this announcement on the basis of an incomplete application.

Each application will undergo an eligibility and conformance review by Federal staff. Applications that pass the eligibility and conformance review will be evaluated on a competitive basis according to the specified evaluation criteria. The competitive review will be conducted in the Washington, DC metropolitan area by panels of Federal and non-Federal experts knowledgeable in the areas of early childhood education and intervention research, early learning, child care, and other relevant program areas.

Application review panels will assign a score to each application and identify its strengths and weaknesses.

OPRE will conduct an administrative review of the applications and results of the competitive review panels and make recommendations for funding to the Director of OPRE.

The Director of OPRE, in consultation with the Commissioner of the Administration on Children, Youth, and Families (ACYF), will make the final selection of the applications to be funded. Applications may be funded in whole or in part depending on: (1) The ranked order of applicants resulting from the competitive review; (2) staff review and consultations; (3) the funds available; and (4) other relevant considerations. The Director may also elect not to fund any applicants with known management, fiscal, reporting, program, or other problems, which make it unlikely that they would be able to provide effective services.

Approved But Unfunded Applications

Applications that are approved but unfunded may be held over for funding in the next funding cycle, pending the availability of funds, for a period not to exceed one year.

VI. Award Administration Information

1. Award Notices: The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements:Grantees are subject to the requirements in 45 CFR part 74 (non-governmental) or 45 CFR part 92 (governmental).

ACF expects to work closely with the organization that receives funding to ensure monies are used appropriately and in the most effective manner possible and that the services and activities included in the approved application address the establishment of a consortium of local research partners and that the needs of the research partners and the American Indian Alaska Native communities be clearly stated in an efficient, effective, and timely manner. Therefore, the organization selected to receive the award will be responsible for implementing activities specified in a work plan that will be jointly developed by the Center and staff from ACF, in consultation with the Head Start Bureau.

The successful applicant will be responsible for submitting for Federal review and approval regular semi-annual financial status and progress reports that describe project activities, and will work cooperatively and collaboratively with ACF officials, other Federal agency officials conducting related activities, and other entities or organizations contracted by ACF to assist in carrying out the purposes of the Head Start program; and ensuring that key staff attend and participate in ACF sponsored workshops and meetings. All applicants are responsible for conforming to the United States Executive Branch Code of Federal Regulations (http://www.gpoaccess.gov/cfr/index.html). The following regulations have been identified as having particular relevance for ACF grants: 45 CFR parts 74 and 92.

Direct Federal grants, subaward funds, or contracts under this ACF program shall not be used to support inherently religious activities such as religious instruction, worship, or proselytization. Therefore, organizations must take steps to separate, in time or location, their inherently religious activities from the services funded under this program. Regulations pertaining to the prohibition of Federal funds for inherently religious activities can be found on the HHS Web site at http://www.os.dhhs.gov/fbci/waisgate21.pdf.

3. Reporting Requirements: Grantees will be required to submit program progress and financial reports (SF-269 found at http://www.acf.hhs.gov/programs/ofs/forms.htm) throughout the project period. Program progress and financial reports are due 30 days after the reporting period. Final programmatic and financial reports are due 90 days after the close of the project period.

Program Progress Reports: Semi-Annually.

Financial Reports: Semi-Annually.

Original reports and one copy should be mailed to: Administration for Children and Families, Office of Grants Management, Division of Discretionary Grants, 370 L'Enfant Promenade, SW., Washington, DC 20447.

VII. Agency Contacts

Program Office Contact: Head Start Research Support Technical Assistance Team, OPRE Grant Review Team, Xtria, LLC, 8045 Leesburg Pike, Suite 400, Vienna, VA 22182, phone: 877-663-0250; e-mail: opre@xtria.com.

Grants Management Office Contact: Attention: Tim Chappelle, Division of Discretionary Grants, Office of Grants Management, Administration for Children and Families, 370 L'Enfant Promenade, SW., Washington, DC 20447, phone: 202-401-4855; e-mail: tichappelle@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Applicants under this announcement are advised that subsequent sale and distribution of products developed under this grant will be subject to the Code of Federal Regulations, title 45, part 74 or part 92. The use of secondary data analysis in order to refine and validate newly-developed measures in relation to already standardized measures is strongly advised.

Definitions: Budget Period—for the purposes of this announcement, budget period means the 12-month period of time for which ACF funds are made available to a particular grantee (e.g., beginning on September 16, 2005, and ending on September 15, 2006).

Project Period—for the purposes of this announcement, project period means the 36-month period starting by September 2005, and ending by September, 2008.

The Head Start Act mandates that all studies, reports, proposals, and data produced or developed with Federal funds awarded under the Act shall become the property of the United States (see S. 649(f) of the Head Start Act, 42 U.S.C. 9845). HHS authorizes grantee institutions, their researchers and other persons to make use of all studies, reports, proposals, and data produced or developed under grants funded under Section 649 of the Head Start Act in activities in furtherance of the purposes of the Head Start program.

Grantees must provide copies of all materials produced with Head Start grant funds to ACF as soon as they become available.

Please reference Section IV.3 for details about acknowledgement of received applications.

Dated: May 2, 2005.
Naomi Goldstein,
Director, Office of Planning, Research, and Evaluation.

[FR Doc. 05-9073 Filed 5-5-05; 8:45 am]

BILLING CODE 4184-01-P